INTERNATIONAL TRADE COMMISSION

[USITC SE-14-023]

Sunshine Act Meetings

AGENCY HOLDING THE MEETING: United States International Trade Commission.

TIME AND DATE: July 11, 2014 at 11 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-515-521 and 731-TA-1251-1257 (Preliminary)(Certain Steel Nails from India, Korea, Malaysia, Oman, Taiwan, Turkey, and Vietnam). The Commission is currently scheduled to complete and file its determinations on July 14, 2014; views of the Commission are currently scheduled to be completed and filed on July 21, 2014.

5. Outstanding action jackets: None.

In accordance with Commission policy, subject matter listed above, not disposed of at the scheduled meeting, may be carried over to the agenda of the following meeting.

By order of the Commission:
Issued: June 30, 2014.
William R. Bishop,
Supervisory Hearings and Information Officer.

[FR Doc. 2014-15679 Filed 6-30-14; 4:15 pm]

BILLING CODE 7020-02-P